DEPARTMENT OF THE INTERIOR

National Indian Gaming Commission

Privacy Act of 1974; System of Records

AGENCY: National Indian Gaming Commission (NIGC or Commission), Interior.

ACTION: Notice of a modified system of records.

SUMMARY: In accordance with the Privacy Act of 1974, as amended, the NIGC is issuing public notice of its intent to modify an existing system of records entitled, Indian Gaming Individuals Record System. This system of records includes information submitted to the NIGC so that it may review and verify eligibility determinations of key employees and primary management officials for tribal licenses in Indian gaming enterprises.

DATES: This modified system is effective upon publication in the Federal Register, except for its routine uses, which are effective April 10, 2023. Please submit any public comment pertaining to this notice on or before April 10, 2023.

ADDRESSES: Comments may be submitted to Tim Osumi, Senior Agency Official for Privacy using any of the following methods:

Mail: 1849 C Street NW, Mail Stop #1621, Washington, DC 20240.

Email: privacy@nigc.gov.

FOR FURTHER INFORMATION CONTACT: Tim Osumi, Senior Agency Official for Privacy at NIGC Office of Privacy, 1849 C Street NW, Mail Stop #1621, Washington, DC 20240; or by telephone at (202) 264-0676; or by email at tim.osum@nigc.gov.

SUPPLEMENTARY INFORMATION: Congress established the NIGC under the Indian Gaming Regulatory Act of 1988 (25 U.S.C. 2701 et seq.) (IGRA) to regulate gaming on Indian lands. The scope of this notice covers information necessary to ensure proper oversight of tribal licensing of key employees and primary management officials in gaming enterprises on Indian lands. The IGRA requires a tribe to notify the Commission of the results of background checks for primary management officials and key employees of Indian gaming enterprises and the issuance of tribal licenses to them (25 U.S.C. 2710(b)(2)(F)(I) and (III)). Further, under the IGRA, the Commission has 30 days to object to issuance of a license by a tribe (25 U.S.C. 2710(c)(1)). Commission rules implement these legislative provisions by (1) requiring tribes to obtain certain information from applicants for key employee and primary management official positions in gaming operations; (2) requiring tribes to forward to the Commission the required information for each key employee and primary management official; (3) reviewing and verifying the submitted information; and (4) conducting supplementary background investigations to the extent the Commission deems necessary. The Commission stores this information in the current system of records. The following is a summary of the systemic modifications that are being proposed in this notice. For more details, please refer to the specific section referenced.

• System Manager has been updated.

• System Location has been updated.

• Categories of Records in the System has been updated to include four new categories: 10 (criminal charges); 11 (previous licensing agency); 12 (photograph); and 14 (fingerprints). In addition, the descriptions of all existing categories have been modified for greater precision.

• Record Source Categories has been updated to include three new categories: fingerprint cards; criminal records history information; and, NIGC—tribal correspondence relating to tribal applicant decisions.

• Routine Uses of Records has been updated to include two new uses that will allow agency to share information with, and coordinate a response to, a suspected or confirmed information breach.

• Policies and Practices for Storage of Records has been updated to account for the agency's transition from paper to electronic recordkeeping.

• Policies and Practices for Retention and Disposal of Records has been updated to include relevant records retention and disposition schedules that have been approved since the last public notice.

• Administrative, Technical, and Physical Safeguards has been updated to account for the agency's transition from paper to electronic recordkeeping and the Information Technology measures that are in place to protect the records.

SYSTEM NAME AND NUMBER:

Indian Gaming Individuals Record System—NIGC-1.

SECURITY CLASSIFICATION:

Unclassified.

SYSTEM LOCATION:

National Indian Gaming Commission headquarters at 90 K Street NW, Washington, DC.

SYSTEM MANAGER(S):

Criminal Justice Information Services System Owner, National Indian Gaming Commission, 90K Street NE, Suite 200, Washington, DC 20002. tel: 202-632-7003, email: cso@nigc.gov.

AUTHORITY FOR MAINTENANCE OF THE SYSTEM:

25 U.S.C. 2710(b)(2)(F).

PURPOSE(S) OF THE SYSTEM:

The system is used by Commission members and staff to review and verify eligibility determinations of key employees and primary management officials for tribal licenses in Indian gaming enterprises.

CATEGORIES OF INDIVIDUALS COVERED BY THE SYSTEM:

Key employees and primary management officials as defined under 25 CFR 502.

CATEGORIES OF RECORDS IN THE SYSTEM:

Summary information from applications for licensing at gaming enterprises on Indian lands; information collected by the staff and members of the Commission; summary information from reports of background investigations; fingerprint card information; criminal history information provided by the Federal Bureau of Investigation; and copies of tribal eligibility determinations. Such information may include: (1) Last name, first name, middle name, other names used (oral or written), signature, social security number, date of birth, place of birth, citizenship, current address, race, gender, height, weight, eye color, hair color, languages spoken; (2) Current, and for the previous five years: business and employment positions held; ownership interests in those businesses; business and residence addresses, and driver's license numbers; (3) the names and current addresses of at least three personal references; (4) current business and residence telephone numbers; (5) a description of any previous business relationships with Indian tribes, including ownership interests in those businesses; (6) a description of any existing and previous business relationships with the gaming industry generally, including ownership of interests in those businesses; (7) the name and address of any licensing or regulatory agency with which the person has filed an application for a license or permit relating to gaming, whether or not such license or permit was granted; (8) for each felony for which there is an ongoing prosecution or a conviction, the charge, the name and address of the court involved, and the date and disposition if any; (9) for each misdemeanor conviction or ongoing misdemeanor prosecution (excluding minor traffic violations) within 10 years of the date of application, the name and address of the court involved and the date and disposition; (10) For each criminal charge excluding minor traffic charges) whether or not there is a conviction, if such criminal charge is within 10 years of the date of application, the criminal charge, the name and address of the court involved and the date and disposition; (11) The name and address of any licensing or regulatory agency with which the person has filed an application for an occupational license or permit, whether or not such license or permit was granted; (12) A photograph; (13) Any other information a tribe deems relevant; and (14) Fingerprints consistent with procedures adopted by a tribe according to 25 CFR 522.2(h).

RECORD SOURCE CATEGORIES:

Tribes or tribal entities; Federal Bureau of Investigation; Federal, state, foreign, tribal, and local law enforcement and regulatory agencies; Commission Chair and staff.

ROUTINE USES OF RECORDS MAINTAINED IN THE SYSTEM, INCLUDING CATEGORIES OF USERS AND THE PURPOSES OF SUCH USES:

1. To disclose relevant information to Federal, State, tribal, or local law enforcement of regulatory agencies to verify information supplied by applicant key employees and primary management officials in connection with determining eligibility for tribal licenses in an Indian gaming enterprise.

2. To disclose relevant information to tribes that licenses or may wish to license individuals in Indian gaming enterprise.

3. In the event that records in this system indicate a violation or potential violation of law, criminal, civil, or regulatory in nature, the relevant records may be referred to the agency charged with responsibility for investigating or prosecuting such violation.

4. To disclose relevant information to a congressional office from the record of an individual in response to an inquiry from the congressional office made at the request of that individual.

5. To disclose relevant information to a Federal, State, local, or tribal agency (or their agents) that is involved in a civil regulatory or enforcement action to protect the integrity of Indian gaming.

6. To appropriate agencies, entities, and persons when:

(a) NIGC suspects or has confirmed that there has been a breach of the system of records;

(b) NIGC has determined that as a result of the suspected or confirmed breach there is a risk of harm to individuals, NIGC (including its information systems, programs, and operations), the Federal Government, or national security; and

(c) The disclosure made to such agencies, entities, and persons is reasonably necessary to assist in connection with NIGC's efforts to respond to the suspected or confirmed breach or to prevent, minimize, or remedy such harm.

7. To another Federal agency or Federal entity, when NIGC determines that information from this system of records is reasonably necessary to assist the recipient agency or entity in:

(a) Responding to suspected or confirmed breach; or

(b) Preventing, minimizing, or remedying the risk of harm to individuals, the recipient agency or entity (including its information systems, programs, and operations), the Federal Government, or national security, resulting from a suspected or confirmed breach.

POLICIES AND PRACTICES FOR STORAGE OF RECORDS:

Records are maintained in electronic format in an electronic information system that is a hybrid system consisting of an on-site server a related cloud tenant environment. Some information is stored as structured data within a database system and some information is stored as unstructured electronic files.

POLICIES AND PRACTICES FOR RETRIEVAL OF RECORDS:

Employee name, gaming operation where employed, social security number, and date of birth.

POLICIES AND PRACTICES FOR RETENTION AND DISPOSAL OF RECORDS:

All records in the system are temporary records and retained and disposed of in compliance with records retention and disposition schedules that have been approved by the National Archives and Records Administration, including: NIGC Schedule DAA-600-2017-011 Item 2, requiring that applicant background information has a 5 year retention period; NIGC Schedule DAA-600-2017-011 Item 3, requiring that applicant criminal history record information has a 1 year retention period; NIGC Schedule DAA-600-2017-003 Item 5, requiring that tribal “notices of results” has a 3 year retention period; and, NIGC Schedule DAA-600-2017-003 Item 6, requiring that Tribal “notices of the issuance of a gaming licenses” has a 3 years retention period.

ADMINISTRATIVE, TECHNICAL, AND PHYSICAL SAFEGUARDS:

The system is only accessible to authorized users using strong password protection. It utilizes firewalls, intrusion detection prevention system (IDPS), a virtual protocol network (VPN) and encrypted communications to protect its perimeter. Access to the system is limited to NIGC personnel who have a need to know for the performance of their duties and limited information about applicant past employment history is also made available to selected authorized tribal gaming regulators. Information within the system is compartmentalized and granular access is dependent on a permission structure that is role-based. All persons authorized to access the system are required to complete training that includes information about the legal requirements for proper handling of privacy information, including criminal history records information (CHRI).

RECORD ACCESS PROCEDURES:

Individuals seeking access to information in this system of records about themselves are required to meet the requirements of NIGC regulations that implement the Privacy Act of 1974, at 25 CFR part 515.

CONTESTING RECORD PROCEDURES:

Requests for correction or amendment must identify the record to be changed and the corrective action sought in accordance with NIGC's Privacy Act regulations at 25 CFR part 515.

NOTIFICATION PROCEDURES:

Any individual who wants to know whether this system of records contains a record about themselves, can make a request, in accordance with NIGC's Privacy Act regulations, 25 CFR part 515 to: Attn: Privacy & Records Information Management Office, National Indian Gaming Commission, 1849 C Street NW, Mail Stop #1621, Washington, DC 20240.

EXEMPTIONS PROMULGATED FOR THE SYSTEM:

Under 5 U.S.C. 552a(k)(2) the Commission is claiming exemptions from certain provisions of the Act for portions of its records. The exemptions and the reasons for them are described in the Commission regulations 25 CFR 515.13.

HISTORY:

Notice of this system of records was last published in full in the Federal Register on March 15, 2004 (69 FR 12182).

E. Sequoyah Simermeyer,
Chairman, National Indian Gaming Commission.

[FR Doc. 2023-04673 Filed 3-8-23; 8:45 am]

BILLING CODE 7565-01-P